DEPARTMENT OF TRANSPORTATION

Federal Highway Administration

Environmental Impact Statement: Seattle, WA

AGENCY: Federal Highway Administration (FHWA), DOT.

ACTION: Rescission of Notice of Intent, FR document 03-10244.

SUMMARY: This notice rescinds the previous Notice of Intent issued on April 18, 2003, to prepare an environmental impacts statement (EIS) for the proposed Magnolia Bridge Replacement transportation project in the city of Seattle, Washington.

FOR FURTHER INFORMATION CONTACT: Elizabeth Healy, Area Engineer, Federal Highway Administration, 711 S. Capitol Way, Suite 501, Olympia, WA 98501, Telephone (360) 753-9480 and Ed Conyers, Washington State Department of Transportation, Local Programs Engineer for Northwest Region, P.O. Box 330310, 15700 Dayton Avenue, Seattle, WA 98133, Telephone (206) 440-4734.

SUPPLEMENTARY INFORMATION: The FHWA, in cooperation with the Washington State Department of Transportation (WSDOT) and the Seattle Department of Transportation (SDOT), issued a Notice of Intent on April 18, 2003 to prepare an EIS to evaluate the potential environmental impacts associated with the proposed replacement of the Magnolia Bridge, which spans from the intersection of 15th Avenue West and West Garfield Street to the intersection of West Galer Street and Dartmouth Avenue West in Seattle, Washington.

The initial proposal included the consideration of four alternatives (three build alternatives and a no action alternative) for evaluation in the proposed EIS. Since then, as the project elements have been refined and completion of associated discipline reports have helped to more specifically identify potential impacts, the build alternative with significant impacts was eliminated from consideration. As such, the FHWA, WSDOT, and SDOT have jointly decided that the project will likely not result in significant impacts to the environment and that an Environmental Assessment (EA) is the most appropriate environmental document for compliance with the National Environmental Policy Act (NEPA). The EA will be circulated, as appropriate, once it is completed.

(Catalog of Federal Domestic Assistance Program Number 20.205, Highway Research, Planning and Construction. The regulations implementing Executive Order 12372 regarding intergovernmental consultation of Federal programs and activities apply to this program.)

Authority: 23 U.S.C. 315; 49 CFR 1.48.

Issued on: January 25, 2007.
Elizabeth Healy,
Area Engineer, Federal Highway Administration, Olympia, Washington.

[FR Doc. E7-1495 Filed 1-30-07; 8:45 am]

BILLING CODE 4910-22-P